SECURITIES AND EXCHANGE COMMISSION

[SEC File No. 270-770, OMB Control No. 3235-0750]

Submission for OMB Review; Comment Request; Extension: Rule 18a-8

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) a request for extension of the previously approved collection of information discussed below.

Exchange Act Rule 18a-8 (17 CFR 240.18a-8) specifies the circumstances under which stand-alone security-based swap dealers (“SBSDs”), stand-alone major security-based swap participants (“MSBSPs”), bank SBSDs, and bank MSBSPs must notify the Commission about their financial or operational condition, as well as the form that the notice must take.

The Commission estimates that the total hour burden under Rule 18a-8 is approximately 5 burden hours per year, and the total cost burden is approximately $0 per year. There has been no change in the estimated total hour and cost burdens since the last approval of this information collection.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by June 10, 2024 to (i) www.reginfo.gov/public/do/PRAMain and (ii) David Bottom, Director/Chief Information Officer, Securities and Exchange Commission, c/o John Pezzullo, 100 F Street NE, Washington, DC 20549, or by sending an email to: PRA_Mailbox@sec.gov.

Dated: May 6, 2024.
J. Matthew DeLesDernier,
Deputy Secretary.

[FR Doc. 2024-10205 Filed 5-9-24; 8:45 am]

BILLING CODE 8011-01-P